DEPARTMENT OF AGRICULTURE

Rural Business-Cooperative Service

Notice of Funding Availability (NOFA) for Delta Health Care and Delta Regional Authority Grant Program

AGENCY: Rural Business-Cooperative Service, USDA and Delta Regional Authority.

ACTION: Notice

SUMMARY: Rural Business-Cooperative Service (RBS), an agency of the United States Department of Agriculture, and Delta Regional Authority announce the availability of grant funds through the Delta Health Care Services Grant Program (DHCS) and Delta Regional Authority (DRA) to be competitively awarded. Pursuant to the Consolidated and Further Continuing Appropriations Acts, of 2013 and 2014, total funding for the DHCS grant is $5,775,327, with a minimum grant amount of $50,000. Total funding for the 2013 DRA is $300,000. There is no minimum grant amount for DRA grants.

Each program has its own respective requirements as detailed in Section IV of this announcement.

DATES: You must submit completed applications for grants according to the following deadlines:

• Paper copies must be postmarked and mailed, shipped, or sent overnight no later than June 13, 2014 to be eligible for grant funding. Late or incomplete applications will not be eligible for grant funding.

• Electronic copies must be received by June 13, 2014 to be eligible for grant funding. Late or incomplete applications will not be eligible for grant funding.

ADDRESSES: You may obtain application guides and materials for this Notice following ways:

• The Internet at the RBS Cooperative Programs Web site: http://www.rurdev.usda.gov/bcp_deltahealthcare.html

• You may also request application guides and materials from RBS by contacting, RBS Office of the Deputy Administrator, Cooperative Programs at (202) 690-1374 or your local State Office. A list of State Office contacts can be found at http://www.rurdev.usda.gov/StateOfficeAddresses.html.

Alabama

USDA Rural Development State Office, Sterling Centre, Suite 601, 4121 Carmichael Road, Montgomery, AL 36106-3683, (334) 279-3400/TDD (334) 279-3495.

Arkansas

USDA Rural Development State Office, 700 West Capitol Avenue, Room 3416, Little Rock, AR 72201-3225, (501) 301-3200/TDD (501) 301-3279.

Illinois

USDA Rural Development State Office, 2118 West Park Court, Suite A, Champaign, IL 61821, (217) 403-6200/TDD (217) 403-6240.

Kentucky

USDA Rural Development State Office, 771 Corporate Drive, Suite 200, Lexington, KY 40503, (859) 224-7300/TDD (859) 224-7422.

Louisiana

USDA Rural Development State Office, 3727 Government Street, Alexandria, LA 71302, (318) 473-7921/TDD (318) 473-7655.

Mississippi

USDA Rural Development State Office, Federal Building, Suite 831, 100 West Capitol Street, Jackson, MS 39269, (601) 965-4316/TDD (601) 965-5850.

Missouri

USDA Rural Development State Office, 601 Business Loop 70 West, Parkade Center, Suite 235, Columbia, MO 65203, (573) 876-0976/TDD (573) 876-9480.

Tennessee

USDA Rural Development State Office, 3322 West End Avenue, Suite 300, Nashville, TN 37203-1084, (615) 783-1300.

You must submit either:

• Completed paper applications for both DHCS and DRA grants to the Office of the Deputy Administrator, Cooperative Programs, Rural Business-Cooperative Service, U.S. Department of Agriculture, 1400 Independence Ave. SW., Room 4016, STOP 3250, Washington, DC 20250-3250, or

• Electronic grant applications for both DHCS and DRA grants at http://www.grants.gov/(Grants.gov), following the instructions you find on that Web site.

FOR FURTHER INFORMATION CONTACT: Office of the Deputy Administrator, Cooperative Programs, Rural Business-Cooperative Programs, 1400 Independence Ave., SW., Room 4016, STOP 3250, Washington, DC 20250-3250; telephone: (202) 720-8460, fax: (202) 690-2724.

Visit the program Web site at http://www.rurdev.usda.gov/BCP_deltahealthcare.html for application assistance for either program, or contact your USDA Rural Development State Office at http://www.rurdev.usda.gov/recd_map.html. Applicants are encouraged to contact their State Offices in advance of the deadline to discuss their projects and ask any questions about the application process.

EO 13175 Consultations and Coordination With Indian Tribal Governments

This executive order imposes requirements on Rural Development in the development of regulatory policies that have tribal implications or preempt tribal laws. Rural Development has determined that this notice does not have a substantial direct effect on one or more Indian tribe(s) or on either the relationship or the distribution of powers and responsibilities between the Federal Government and the Indian tribes. Thus, this notice is not subject to the requirements of Executive Order 13175. Tribal Consultation inquiries and comments should be directed to Rural Development's Native American Coordinator at aian@wdc.usda.gov or (720) 544-2911.

Paperwork Reduction Act

The Paperwork Reduction Act requires Federal agencies to seek and obtain Office of Management and Budget (OMB) approval before undertaking a collection of information directed to ten or more persons. In accordance with the Paperwork Reduction Act of 1995 (44 U.S.C. Chapter 35), the agency conducted an analysis to determine the number of eligible applications the Agency estimates that it will receive under the Delta Health Care Services Grant Program. It was determined that the estimated number of eligible applications was fewer than nine and in accordance with 5 CFR 1320, no OMB approval is necessary at this time.

SUPPLEMENTARY INFORMATION:

Overview

Federal Agency: Rural Business-Cooperative Service (RBS) and Delta Regional Authority.

Funding Opportunity Title: Delta Health Care & Delta Regional Authority Grant Program.

Announcement Type: Funding announcement.

Catalog of Federal Domestic Assistance (CFDA) Number:10.874 Delta Health Care Services Grant Program

10.773 Delta Regional Authority

Dates: The due date for application submissions is June 13, 2014:

• Paper copies must be postmarked and mailed, shipped, or sent overnight no later than June 13, 2014 to be eligible for grant funding. Late or incomplete applications will not be eligible for grant funding.

• Electronic copies must be received by June 13, 2014 to be eligible for grant funding. Late or incomplete applications will not be eligible for grant funding.

I. Funding Opportunity

This funding opportunity announces the availability of funds for the Delta Health Care Services (DHCS) and Delta Regional Authority (DRA) grant programs. The DHCS grant program is authorized under Section 379G of the Consolidated Farm and Rural Development Act (7 U.S.C. 2008u). The DRA grant program is authorized under Sections 382A and 382B of the Consolidated Farm and Rural Development Act (7 U.S.C. 2009aa and 2009aa-1). Both grant programs provide direct financial assistance to support the rural communities within the Delta Region. The purpose of this joint solicitation is to ensure a streamlined process for eligible applicants to leverage both programs while also strengthening the partnership between USDA and DRA in coordinating the assistance to the Delta Region and the management and monitoring of these awards.

The available funding for the DRA grant program is primarily for the purposes of assisting in the economic development of rural areas in the Delta Region by providing technical assistance for health care related business and economic development planning.

The DHCS grant program is designed to provide financial assistance to address the continued unmet health needs in the Delta Region through cooperation among health care professionals, institutions of higher education, research institutions, and other individuals and entities in the Delta Region. DHCS grant funds may be used for the development of health care services; health education programs, health care job training programs; and for the development and expansion of public health-related facilities in the rural Delta Region.

Grants will be awarded to eligible entities in the Delta Region serving communities of no more than 50,000 inhabitants.

II. Definitions

The terms and conditions provided in this Notice are applicable to and for purposes of this Notice only.

Academic Health and Research Institute consists of a medical school, one or more other health profession schools or programs (such as allied health, dentistry, graduate studies, nursing, pharmacy, public health, veterinary medicine), and one or more owned or affiliated teaching hospitals or health systems.

Consortium means a group of at least three entities that are regional institutions of higher education, academic health and research institutes, and economic development entities located in the Delta Region that have experience in addressing the health care issues in the region. At least one of the consortium members must be legally organized as an incorporated organization or other legal entity and have legal authority to contract with the Government.

Delta Region means the 252 counties and parishes within the states of Alabama, Arkansas, Illinois, Kentucky, Louisiana, Mississippi, Missouri, and Tennessee that are served by the Delta Regional Authority. (The Delta Region may be adjusted by future Federal statute.) To view the areas identified within the Delta Region visit http://www.dra.gov/about-us/eight-state-map.aspx.

Economic Development Entity means any public or non-profit organization whose primary mission is to stimulate local and regional economies within the Delta Region by increasing employment opportunities and duration of employment, expanding or retaining existing employers, increasing labor rates or wage levels, reducing outmigration, and/or creating gains in other economic development-related variables such as land values. These activities shall primarily benefit low- and moderate-income individuals in the Delta Region.

Health Care Cooperative means a health care system/organization owned and democratically controlled by the people who use its services and whose benefits are derived and distributed equitably on the basis of use.

Institution of Higher Education means either a postsecondary (post-high school) educational institution that awards a bachelor's degree or provides not less than a 2-year program that is acceptable for full credit toward such a degree, or a postsecondary vocational institution that provides a program of training to prepare students for gainful employment in a recognized occupation.

Rural area means any area of the United States not included within (a) the boundaries of any incorporated or unincorporated city, village, or borough having a population in excess of 50,000 inhabitants and (b) any urbanized area contiguous and adjacent to a city or town described in clause (a).

RBS (referred to as the Agency) means Rural Business-Cooperative Service, an agency under the mission of Rural Development which is under the Unites States Department of Agriculture.

Technical Assistance means a non-construction, problem-solving activity performed for the benefit of a business or community to assist in the economic development of a rural area. The Agency will determine whether a specific activity qualifies as technical assistance.

III. Award Information

Type of Award: Grant

Total Funding for DHCS: $5,775,327

Maximum DHCS Award: $1,000,000

Minimum DHCS Award: $50,000

Total Funding for DRA: $300,000

Maximum DRA Award: $100,000

Minimum DRA Award: N/A

Period of Performance:

All grant funds for both DHCS and DRA programs are limited to a 2-year performance period. This deadline can be extended for up to one year if necessary, but only in unusual circumstances.

In order to request a period of performance extension, the grantee must submit a formal written request no later than 60 days prior to the expiration of the period of performance and must include a compelling justification. This justification must also demonstrate that work is in progress and that it can be completed within the extended period of performance. After reviewing the justification, the Agency, at its discretion, may extend the period of performance by 1-year if it is determined that unusual circumstances exist.

The Agency will make awards and execute documents appropriate to the project prior to any advance of funds to successful applicants.

IV. Eligibility Information

An applicant must obtain a Dun and Bradstreet Data Universal Numbering System (DUNS) number (see Section IV.B.) and register in the System for Award Management (SAM), formerly Central Contractor Registry (CCR), prior to submitting an application. (See 2 CFR 25.200(b).) In addition, an applicant must maintain its registration in the SAM database during the time its application is active. Finally, an applicant must have the necessary processes and systems in place to comply with the reporting requirements in 2 CFR 170.200(b), as long as it is not exempted from reporting. Exemptions are identified at 2 CFR 170.110(b).

A. Eligible Applicants

DHCS and DRA grant programs have their own respective authorities and requirements. Eligible applicants may apply for one or both programs as long as proposed projects specifically comply with the following eligibility requirements.

DHCS: Grants funded through DHCS may be made to a Health Care Cooperative or a Consortium, as defined in Section II of this Notice. The Health Care Cooperative must be legally organized and have authority to contract with the Federal Government. To apply as a Consortium, at least one member of the Consortium must be legally organized as an incorporated organization, or other legal entity, and have legal authority to contract with the Federal Government. The Consortium must be located in the Delta Region and must include at least three entities that are regional institutions of higher education, academic health and research institutes, or economic development entities.

DRA: DRA funds may be made to public bodies, regional institutions of higher education, nonprofit corporations, Indian tribes on Federal or State reservations and other federally recognized tribal groups, and cooperatives within the Delta Region.

Table 1—Summary of Applicant Eligibility
Eligible Applicants | DHCS | DRA
1. Consortium of | ✓ |
Regional Institutions of Higher Education | ✓ | ✓
Academic Health and Research Institute | ✓ |
Economic Development Entities | ✓ |
2. Public Bodies (towns, communities, State agencies and authorities) |  | ✓
3. Nonprofit Corporations |  | ✓
4. Indian Tribes |  | ✓
5. Health Care Cooperatives | ✓ | ✓

B. Eligible Activities

DRA grant funds may be used to assist in the economic development of rural areas by providing technical assistance for business development and economic development planning.

DHCS grant funds may be utilized for the development of health care services, health education programs, health care job training programs, and for the development and expansion of public health-related facilities in the Delta Region. Grants will be awarded to eligible entities in the Delta Region serving communities of no more than 50,000 inhabitants to help to address the long standing and unmet health needs of the region. Awardees will be selected through a merit-based interagency grant process.

Table 2—Summary of Eligible Grant Purposes
Eligible Purposes | DHCS | DRA
Planning |  | ✓
Technical Assistance |  | ✓
Health Care Job Training | ✓ | ✓
Health Care Service Development | ✓ |
Health Education Program Development | ✓ |
Development and/or Expansion of Public Health Related Facility | ✓ |

Note: If you are an eligible applicant for both DHCS and DRA grant programs (i.e. regional institutions of higher education and rural cooperatives), you may propose funding for both programs as long as proposals for each program are distinctly different. For example, DRA funds may be used to assist in the planning and creation of a new nurse training institute, while DHCS funds may be used for implementing the health care services carried out by the nurses. This would require one scope of work for each program.

C. Cost Sharing or Matching

Matching funds are not required.

D. Other Eligibility Requirements

An application must propose to use project funds, including grant and other contributions committed under the evaluation criteria for eligible purposes. Also, for the DHCS Program the Consortium must be located in the Delta Region and the project must serve, and grant funds must be expended, in rural areas as defined in Section II of this Notice, within the Delta Region. However, the applicant need not propose to serve the entire Delta Region.

DRA funds cannot be used for construction, planning a facility, engineering work, or revolving loan funds. However, if you include funds in your budget that are for ineligible purposes, we will consider the application for funding if the ineligible purposes total 10 percent or less of an applicant's total project budget. However, if the application is successful, those ineligible costs must be removed before we will make the grant award. If we cannot determine the percentage of ineligible costs, the application will not be considered for funding.

The following additional applicant eligibility requirements apply to both programs:

1. Individuals are not eligible to apply.

2. The applicant must be able to demonstrate at least 1 year of prior experience in addressing the health care issues in the Delta Region.

3. If the applicant has an existing DHCS and/or DRA award, you must be performing satisfactorily to be considered eligible for a new award. Satisfactory performance includes, but is not limited to, being up-to-date on all financial and performance reports and being current on all tasks as approved in the work plan. The Agency will consider a one-time request to extend the period for up to 1 year during which grant funding is available.

Awards made under this Notice are subject to the provisions contained in the Consolidated and Further Continuing Appropriations Act, 2013, Pub.L. 113-6, sections 732 and 733 regarding corporate felony convictions and corporate federal tax delinquencies. You must provide representation as to whether your organization or any officers or agents of your organization has or has not been convicted of a felony criminal violation under Federal or State law in the 24 months preceding the date of application. In addition, you must provide representation as to whether your organization has or does not have any unpaid Federal tax liability that has been assessed, for which all judicial and administrative remedies have been exhausted or have lapsed, and that is not being paid in a timely manner pursuant to an agreement with the authority responsible for collecting the tax liability. To comply with these provisions, all applicants must complete paragraph (A) of this representation, and all corporate applicants also must complete paragraphs (B) and (C) of this representation:

(A) Applicant ________ [insert applicant name] is __ not __ (check one) and entity that has filed articles of incorporation in one of the fifty states, the District of Columbia, or the various territories of the United States including American Samoa. Federated States of Micronesia, Guam, Midway Islands, Northern Mariana Islands, Puerto Rico, Republic of Palau, Republic of the Marshall Islands, U.S. Virgin Islands.

(B) Applicant ________ [insert applicant name] __ has __ has not __ (check one) been convicted of a felony criminal violation under Federal or state law in the 24 months preceding the date of application. Applicant has __ has not __ (check one) had any officer or agent of the Applicant convicted of a felony criminal violation for actions taken on behalf of the Applicant under Federal or State law in the 24 months preceding the date of the signature on the pre-application.

(C) Applicant ________ [insert applicant name] has __ does not have __ (check one) any unpaid Federal tax liability that has been assessed, for which all judicial and administrative remedies have been exhausted or have lapsed, and that is not being paid in a timely manner pursuant to an agreement with the authority responsible for collecting the tax liability.

a. Indirect Costs

In accordance with Section 704 of Consolidated and Further Continuing Appropriations Act, 2013, the total amount for salaries and wages, administrative expenses, and recurring operating costs may not exceed 10 percent of the grant.

b. Environmental and Engineering Requirements

For proposals including construction under the DHCS program, this additional requirement applies. The applicant must provide details of the project's impact on the environment and historic preservation, and comply with 7 CFR part 1940, which contains the Agency's policies and procedures for implementing a variety of Federal statutes, regulations, and executive orders generally pertaining to the protection of the quality of the human environment. This must be contained in a separate section entitled “Environmental Impact of the Project” and must include the Environmental Questionnaire/Certification describing the impact of the project. The Environmental Questionnaire/Certification is available on the RBS Cooperative Programs Web site at: http://www.rurdev.usda.gov/bcp_deltahealthcare.html. Submission of the Environmental Questionnaire/Certification alone does not constitute compliance with 7 CFR part 1940.

Applications for technical assistance or planning projects are generally excluded from the environmental review process by 7 CFR 1940.333.

c. Funding Restrictions

Grant funds may not be used to:

1. Duplicate current services or replace or substitute support previously provided. If the current service is inadequate, however, grant funds may be used to expand the level of effort or a service beyond what is currently being provided;

2. Pay costs to prepare the application for funding under this program;

3. Pay costs of the project incurred prior to the effective date of the grant period;

4. Fund political activities;

5. Pay for assistance to any private business enterprise which does not have at least 51 percent ownership by those who are either citizens of the United States or reside in the United States after being legally admitted for permanent residence; or

6. Pay any judgment or debt owed to the United States. Any delinquent debt to the Federal Government shall cause the applicant to be ineligible to receive funds until the debt has been paid.

E. Completeness Eligibility

Your application will not be considered for funding if it does not provide sufficient information to determine eligibility or is missing required elements. In particular, you must include a project budget that identifies each task to be performed, along with the period of performance for each task, and the amounts of grant funds and other contributions needed for each task.

V. Application and Submission Information

Only one application is required per eligible applicant whether applying for only one program or both. Please see instructions below on how to access and submit a complete application for this funding opportunity.

A. Where to get Application Information

The application guide and copies of necessary forms for the DHCS and DRA Grant Programs are available from these sources:

• The Internet at http://www.rurdev.usda.gov/bcp_deltahealthcare.html

• http://www.grants.gov, or

• For paper copies of these materials: call (202) 690-1374.

B. How and Where To Submit an Application

You may file an application in either paper or electronic format. To submit your application electronically you must use the Grants.gov Web site at http://www.grants.gov. You may not submit an application electronically in any way other than through Grants.gov. Fax or email applications will not be accepted.

Whether you file a paper or an electronic application, you will need a DUNS number.

1. DUNS Number

As required by the OMB, all applicants for grants must supply a DUNS number when applying. The Standard Form 424 (SF-424) contains a field for you to use when supplying your DUNS number. A DUNS number can be obtained at no cost by visiting http://fedgov.dnb.com/webform or calling toll-free (866) 705-5711.

2. System for Award Management (SAM)

(a) In accordance with 2 CFR part 25, applicants, whether applying electronically or by paper, must be registered in SAM prior to submitting an application. Applicants may register with SAM at https://www.sam.gov or by calling 1-(866) 606-8220. Completing the SAM registration process takes up to five business days, and applicants are strongly encouraged to begin the process well in advance of the deadline specified in this Notice.

(b) The SAM registration must remain active, with current information, at all times during which an entity has an application under consideration by an agency or has an active Federal Award. To remain registered in the SAM database after the initial registration, the applicant is required to review and update, on an annual basis from the date of initial registration or subsequent updates, its information in the SAM database to ensure it is current, accurate and complete.

For paper applications, send or deliver the applications by the U.S. Postal Service (USPS) or courier delivery services to the RBS receipt point set forth below. The Agency will not accept applications by fax or email. Original paper application (no stamped, photocopied, or initialed signatures) and one copy must be postmarked by June 13, 2014, to the following address: Office of the Deputy Administrator, Cooperative Programs, Rural Business-Cooperative Service, 1400 Independence Avenue, SW., STOP 3250, Room 4016, Washington, DC 20250-3250.

C. Submission Date and Time

Application Deadline date: June 13, 2014.

Explanation of Deadlines: Complete paper applications must be postmarked by June 13, 2014. Electronic applications submitted through Grants.gov will be accepted by the system through midnight eastern time on the deadline date.

D. Completed Application Requirements

1. Detailed information on each item required can be found in the DHCS/DRA Grant Program application guide http://www.rurdev.usda.gov/bcp_deltahealthcare.html. The program's application guide provides specific guidance on each of the items listed and also provides all necessary forms and sample worksheets.

2. Applications should be prepared in conformance with applicable USDA regulations including 7 CFR parts 3015, 3016, and 3019, as applicable. A completed application must include the following:

a. An Application for Federal Assistance. A completed SF-424.

b. Evidence of eligibility. Evidence of the applicant's eligibility to apply under this Notice. If the applicant is applying as a consortium, additional evidence that the applicant is a consortium as defined in this Notice.

c. A project abstract. A summary not to exceed one page, suitable for dissemination to the public and to Congress.

d. Executive summary. An executive summary of the project describing its purpose, not to exceed two pages.

e. Scoring documentation. The grant applicant must address and provide documentation on how it meets each of the scoring criteria, specifically the rurality of the project area and communities served, the community needs and benefits derived from the project, and project management and organization capability.

f. Service area maps. Maps with sufficient detail to show the area that will benefit from the proposed facilities and services, and the location of facilities purchased with grant funds.

g. Scope of work. The scope of work must include (1) the specific activities and services, such as programs and training, to be performed under the project, (2) the facilities to be purchased or constructed, (3) who will carry out the activities and services, (4) specific time frames for completion and (5) documentation regarding how the applicant solicited input for the project from local governments, public health care providers, and other entities in the Delta Region.

h. Written narrative. The narrative should include at minimum the following items: (1) an explanation of why the project is needed, the benefits of the proposed project, and how the project meets the grant selection criteria; (2) business to be assisted, if appropriate and economic development activities within the project area; and (3) an explanation of how the proposed project will result in increased or saved jobs in the area and the number of projected new and saved jobs, not to exceed 10 pages.

i. Budget. The applicant must provide a budget showing the line item costs for all capital and operating expenditures eligible for the grant funds, and other sources of funds necessary to complete the project.

j. Financial information and sustainability. The applicant must provide current financial statements and a narrative description demonstrating sustainability of the project, all of which show sufficient resources and expertise to undertake and complete the project and how the project will be sustained following completion.

k. Statement of experience. The applicant must provide a written narrative describing its demonstrated capability and experience in addressing the health care issues in the Delta Region and in managing and operating a project similar to the proposed project.

l. Evidence of legal authority and existence. At least one member of the Cooperative/Consortium must provide evidence of its legal existence and authority to enter into a grant agreement with the Agency and perform the activities proposed under the grant application.

m. Acknowledgment from Consortiums. Each application from a consortium must include an acknowledgement from each member of the Consortium that it is a member of the Consortium. This acknowledgement must be on each entity's letterhead and signed by an authorized representative of the entity.

E. Additional Requirements by Program

The applicant must provide evidence or certification that it is in compliance with all applicable Federal statutes and regulations including, but not limited to, the following (sample certifications are provided in the application guide):

• Equal Opportunity and Nondiscrimination

• Drug-Free Workplace Act of 1998 (41 U.S.C. 701 et seq.);

• Form AD-1047, “Certification Regarding Debarment, Suspension, and Other Responsibility Matters—Primary Covered Transactions

• Form AD-1048, “Certification Regarding Debarment, Suspension, Ineligibility and Voluntary Exclusion—Lower Tier Covered Transaction”

• Form AD-1049, “Certification Regarding a Drug-Free Workplace Requirement (Grants)

• Lobbying for Contracts, Grants, Loans, and Cooperative Agreements (31 U.S.C. 1352)

There are additional environmental requirements for proposals including construction under the DHCS program. The applicant must provide details of the project's impact on the environment and historic preservation and comply with 7 CFR part 1940, which contains the Agency's policies and procedures for implementing a variety of Federal statutes, regulations, and executive orders generally pertaining to the protection of the quality of the human environment. This must be contained in a separate section entitled “Environmental Impact of the Project” and must include the Environmental Questionnaire/Certification describing the impact of the project. The Environmental Questionnaire/Certification is available on the RBS Cooperative Programs Web site at: http://www.rurdev.usda.gov/bcp_deltahealthcare.html. Submission of the Environmental Questionnaire/Certification alone does not constitute compliance with 7 CFR part 1940.

Applications for technical assistance or planning projects are generally excluded from the environmental review process by 7 CFR 1940.333.

VI. Application Review Information

A. Criteria

Grant applications are scored competitively and subject to the criteria listed below. Grant application scoring criteria are detailed in the DHCS and DRA Grant Application Guide which can be found at http://www.rurdev.usda.gov/BCP_DeltaHealthCare.html. There are four criteria that when totaled together can add up to a total of 100 points, broken down as follows:

1. Rurality of the project area and communities served—Up to 15 Points

2. Other Contributions—Up to 15 points

3. Community needs and benefits derived from the project—Up to 30 Points

4. Project management and organization capability—Up to 40 points

B. Grant Review Standards

1. All applications for grants must be delivered to RBS at the address specified in this Notice, or submitted electronically to http://www.grants.gov/(Grants.gov) to be eligible for funding. The Agency will review each application for conformance with the provisions of this Notice. The Agency may contact the applicant for additional information or clarification.

2. We will review each application to determine if it is eligible for assistance based on the requirements of this Notice as well as other applicable Federal regulations.

3. Applications conforming with this Notice will be evaluated competitively by the Agency, and will be awarded points in accordance with this Notice. Applications will be ranked and grants awarded in rank order until all grant funds are expended.

C. Scoring Guidelines

The Agency will review each application to determine if it is eligible for assistance based on the requirements of this Notice, as well as other applicable Federal regulations.

Applications conforming with this Notice will be evaluated competitively by the Agency and will be awarded points as described in the DHCS/DRA Grant Application Guide. Applications will be ranked and grants awarded in rank order until all grant funds are expended. The applicant must address each selection criterion outlined in this Notice. Any criterion not substantively addressed will receive zero points. The Agency may contact the applicant for additional information or clarification.

1. The applicant's rurality calculation will be checked and, if necessary, corrected by the Agency.

2. The Other Contributions score will be calculated based on documentation provided indicating who will be providing the other source of funds, the amount of funds, when those funds will be provided, and how the funds will be used in the project budget. The Agency will assess how well the applicant intends to leverage the use of additional contributions to extend the scope of the project.

3. The Community Needs and Benefits derived from the project score will be determined by the Agency based on information presented in the application. The Community Needs and Benefits score is a subjective score based on the reviewer's assessment of the supporting arguments made in the application. The score aims to assess how the project's purpose and goals benefit the residents in the Delta Region.

4. The Project Management and Organization Capability score will be determined by the Agency based on information presented in the application. The Agency will evaluate the applicant's experience, past performance, and accomplishments addressing health care issues to ensure effective project implementation.

D. Selection Process

Grant applications are ranked by final score. The Agency selects applications based on those rankings, subject to availability of funds. Rural Development has the authority to limit the number of applications selected in any one state, or from any applicant.

VII. Award Administration Information

A. Award Notices

The Agency recognizes that each funded project is unique, and therefore may attach conditions to different projects' award documents. The Agency generally notifies applicants whose projects are selected for awards by faxing an award letter. The Agency follows the award letter with a grant agreement that contains all the terms and conditions for the grant. An applicant must execute and return the grant agreement, accompanied by any additional items required by the grant agreement. If the application is not successful, the applicant will receive notification, including mediation procedures and appeal rights, by mail.

All adverse determinations regarding applicant eligibility and the awarding of points as part of the selection process are appealable to the National Appeals Division, USDA (see 7 CFR part 11). Instructions on the appeal process will be provided at the time an applicant is notified of the adverse decision.

B. Administrative and National Policy Requirements

All recipients of Federal financial assistance are required to comply with the Federal Funding Accountability and Transparency Act of 2006 and must report information about sub-awards and executive compensation (see 2 CFR part 170). These recipients must also maintain their registration in the SAM database as long as their grants are active. These regulations may be obtained at http://www.gpoaccess.gov/cfr/index.html.

The following additional requirements apply to grantees selected for this program:

• Agency-approved Grant Agreement.

• Letter of Conditions.

• Form RD 1940-1, “Request for Obligation of Funds.”

• Form RD 1942-46, “Letter of Intent to Meet Conditions.”

• Form AD-1047, “Certification Regarding Debarment, Suspension, and Other Responsibility Matters—Primary Covered Transactions.”

• Form AD-1048, “Certification Regarding Debarment, Suspension, Ineligibility and Voluntary Exclusion-Lower Tier Covered Transactions.”

• Form AD-1049, “Certification Regarding a Drug-Free Workplace Requirement (Grants).”

• Form AD-3031, “Assurance Regarding Felony Conviction or Tax Delinquent Status for Corporate Applicants.”

• Form RD 400-4, “Assurance Agreement.”

• SF-LLL, “Disclosure of Lobbying Activities” if applicable.

• 7 CFR parts 3015, 3016, 3019, and 3052, as applicable.

In addition to specific grant requirements, all approved applicants will be required to do the following:

1. Use Form SF-270 “Request for Advance or Reimbursement” to request advances or reimbursements, as applicable, but not more frequently than once a month;

2. Maintain a financial management system that is acceptable to the Agency; and

3. Collect and maintain data on race, sex, and national origin of the beneficiaries of the project.

C. Reporting Requirements

1. Federal Financial Reports

An SF-425, “Federal Financial Report,” must be submitted listing expenditures according to agreed upon budget categories, on a semiannual basis. Reporting periods end each March 31 and September 30. Reports are due 30 days after the reporting period ends.

2. Performance Reports

Semiannual performance reports should compare accomplishments to the objectives stated in the proposal. Identify all tasks completed to date and provide documentation supporting the reported results. If the original schedule provided in the work plan is not being met, the report should discuss the problems or delays that may affect completion of the project. Objectives for the next reporting period should be listed. Compliance with any special condition on the use of award funds should be discussed. Reports are due as provided in paragraph C1of this section. The supporting documentation for completed tasks include, but are not limited to, feasibility studies, marketing plans, business plans, articles of incorporation and bylaws, and an accounting of how working capital funds were spent.

3. Subrecipient Reporting

The applicant must have the necessary processes and systems in place to comply with the reporting requirements for first-tier sub-awards and executive compensation under the Federal Funding Accountability and Transparency Act of 2006 in the event the applicant receives funding unless such applicant is exempt from such reporting requirements pursuant to 2 CFR 170.110(b). The reporting requirements under the Transparency Act pursuant to 2 CFR part 170 are as follows:

1. First Tier Sub-Awards of $25,000 or more in non-Recovery Act funds (unless they are exempt under 2 CFR part 170) must be reported by the Recipient to http://www.fsrs.gov no later than the end of the month following the month the obligation was made.

2. The Total Compensation of the Recipient's Executives (five most highly compensated executives) must be reported by the Recipient (if the Recipient meets the criteria under 2 CFR part 170) to http://www.sam.gov by the end of the month following the month in which the award was made.

3. The Total Compensation of the Subrecipient's Executives (five most highly compensated executives) must be reported by the Subrecipient (if the Subrecipient meets the criteria under 2 CFR part 170) to the Recipient by the end of the month following the month in which the sub-award was made. Further details regarding these requirements can be obtained at http://www.gpoaccess.gov/cfr/index.html.

4. Final Reports

The final project performance report, inclusive of supporting documentation, is due within 90 days of the completion of the project.

5. Closeout

Grant closeout activities include a letter to the grantee with final instructions and reminders for amounts to be de-obligated for any unexpended grant funds, final project performance reports due, submission of outstanding deliverables, audit requirements, or other outstanding items of closure.

VIII. Agency Contacts

A. Web site: http://www.rurdev.usda.gov/bcp_deltahealthcare.html. The Web site maintains up-to-date resources and contact information for the DHCS/DRA Grant Programs.

B. Phone: (202) 720-8460.

C. Fax: (202) 690-2724.

D. Email: RD.DeltaHealth@wdc.usda.gov.

E. Web site: http://www.rurdev.usda.gov/bcp_deltahealthcare.html.

D. Main point of contact: Deputy Administrator, Cooperative Programs, RBS.

IX. Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's Target Center at (202) 720-2600 (voice and TDD).

If you wish to file a Civil Rights program complaint of discrimination, complete the USDA Program Discrimination Complaint Form (PDF) found online at http://www.ascr.usda.gov/complain_filing_cust.html or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442, or email at program.intake@usda.gov.employer.

Individuals who are deaf, hard of hearing, or have speech disabilities and who wish to file either an EEO or program complaint, please contact USDA through the Federal Relay Service at (800) 877-8339 or (800) 845-6136 (in Spanish).

Persons with disabilities who wish to file a program complaint, please see information above on how to contact us by mail directly or by email. If you require alternative means of communication for program information (e.g., Braille, large print, audiotape, etc.), please contact USDA's TARGET Center at (202) 720-2600 (voice and TDD).

Dated: April 3, 2014.
Lillian Salerno,
Acting Administrator, Rural Business-Cooperative Programs.

[FR Doc. 2014-08363 Filed 4-11-14; 8:45 am]

BILLING CODE 3410-XY-P